DEPARTMENT OF THE INTERIOR

Fish and Wildlife Service

[Docket No. FWS-R8-ES-2018-0116; FF08ESMF00-FXES11140800000-189]

Block 12 Development Project, Kern County, California; Draft Environmental Assessment and Draft Habitat Conservation Plan; Reopening of Public Comment Period

AGENCY: Fish and Wildlife Service, Interior.

ACTION: Notice of availability; reopening of public comment period.

SUMMARY: The U.S. Fish and Wildlife Service (Service) is reopening the public comment period for the draft environmental assessment (draft EA) and draft habitat conservation plan (HCP) in support of an incidental take permit (ITP) application received from Aera Energy, LLC.

DATES: The comment period for the draft EA and draft HCP addressing the ITP application for incidental take, which opened via a notice that published on March 2, 2020 (85 FR 12322), is reopened. We will accept comments received or postmarked on or before April 17, 2020. Comments submitted electronically using http://www.regulations.gov (see ADDRESSES) must be received by 11:59 p.m. Eastern Time on the closing date.

ADDRESSES: Obtaining Documents: The draft EA, draft HCP, and any comments and other materials that we receive are available for public inspection at http://www.regulations.gov in Docket No. FWS-HQ-IA-2018-0116.

Submitting Comments: To submit comments, please use one of the following methods, and note that your information requests or comments are in reference to the draft EA, draft HCP, or both. If you have previously submitted comments, please do not resubmit them, we have already incorporated them in the public record and will fully consider them in our final decision.

• Internet: Submit comments at http://www.regulations.gov under Docket No. FWS-R8-ES-2018-0116.

• U.S. Mail or Hand-Delivery: Public Comments Processing, Attn: Docket No. FWS-R8-ES-2018-0116; U.S. Fish and Wildlife Service Headquarters, MS: PRB/3W; 5275 Leesburg Pike; Falls Church, VA 22041-3803.

For more information, see Public Comments under SUPPLEMENTARY INFORMATION.

FOR FURTHER INFORMATION CONTACT: Justin Sloan, Senior Wildlife Biologist, or Patricia Cole, Chief, San Joaquin Valley Division, Sacramento Fish and Wildlife Office, by email at justin_sloan@fws.gov or patricia_cole@fws.gov, by phone at 916-414-6600 or via the Federal Relay Service at 800-877-8339.

SUPPLEMENTARY INFORMATION: The U.S. Fish and Wildlife Service (Service) received an incidental take permit (ITP) application from Aera Energy, LLC in accordance with the requirements of the Endangered Species Act, as amended (ESA; 16 U.S.C. 1531 et seq.). For more information, see the March 2, 2020 (85 FR 12322), notice. We are reopening the public comment period on the draft EA and draft HCP documents (see DATES and ADDRESSES).

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Jennifer Norris,
Field Supervisor, Sacramento Fish and Wildlife Office, Sacramento, California.

[FR Doc. 2020-06961 Filed 4-2-20; 8:45 am]

BILLING CODE 4333-15-P